DEPARTMENT OF COMMERCE

National Oceanic and Atmospheric Administration

50 CFR Part 679

[Docket No. 060216045-6045-01; I.D. 031406B]

Fisheries of the Exclusive Economic Zone Off Alaska; Adjustment of Pacific Cod Total Allowable Catch Amounts in the Bering Sea and Aleutian Islands

AGENCY: National Marine Fisheries Service (NMFS), National Oceanic and Atmospheric Administration (NOAA), Commerce.

ACTION: Temporary rule; inseason adjustment.

SUMMARY: NMFS is adjusting the Pacific cod total allowable catch (TAC) amount in the Bering Sea and Aleutian Islands Management Area (BSAI). This action is necessary to prevent exceeding the Pacific cod acceptable biological catch (ABC) in the BSAI and is consistent with the goals and objectives of the Fishery Management Plan for Groundfish of the BSAI (FMP).

DATES: Effective March 14, 2006, through 2400 hrs, Alaska local time (A.l.t.), December 31, 2007.

FOR FURTHER INFORMATION CONTACT: Josh Keaton, 907-586-7228.

SUPPLEMENTARY INFORMATION: NMFS manages the groundfish fishery in the BSAI according to the FMP prepared by the North Pacific Fishery Management Council (Council) under authority of the Magnuson-Stevens Fishery Conservation and Management Act. Regulations governing fishing by U.S. vessels in accordance with the FMP appear at subpart H of 50 CFR part 600 and 50 CFR part 679.

The 2006 and 2007 final harvest specifications for groundfish in the BSAI (71 FR 10894, March 3, 2006) establish the 2006 and 2007 Pacific cod ABCs as 194,000 metric tons (mt) and 148,000 mt, respectively. The TACs are set equal to the ABCs for Pacific cod in the BSAI.

On March 1, 2006, the Alaska Department of Fish and Game announced by emergency regulation, a Pacific cod guideline harvest level (GHL), west of 170 degrees west longitude in the Aleutian Islands subarea, equal to 3% of the Pacific cod ABC in the BSAI established in the final harvest specifications for groundfish in the BSAI (71 FR 10984, March 3, 2006).

As of March 1, 2006, the Administrator, Alaska Region, NMFS, (Regional Administrator) has determined that the current TACs are incorrectly specified and an adjustment is necessary to prevent exceeding the ABC. The best available scientific information for the Pacific cod fisheries in the BSAI indicates that the addition of a state waters GHL in the Aleutian Islands subarea would result in overall harvest amounts that exceed the 2006 and 2007 Pacific cod ABCs in the BSAI. The Council, its Advisory Panel, and its Scientific and Statistical Committee have determined that the acceptable harvest level for the combined State and Federal Pacific cod fisheries should not exceed the ABC since this could result in an unacceptable change in the biological stock status of Pacific cod in the BSAI. Therefore, in accordance with § 679.25(a)(1)(iii) and (2)(iv), the Regional Administrator adjusts the 2006 and 2007 Pacific cod TACs in the BSAI.

Pursuant to § 679.20(a)(7), Tables 1, 2, 5, 12, and 14 of the 2006 and 2007 final harvest specifications for groundfish in the BSAI (71 FR 10894, March 3, 2006) are revised for the 2006 and 2007 Pacific cod TACs consistent with this adjustment.

Table 1.—2006 and 2007 Overfishing Level (OFL), Acceptable Biological Catch (ABC), Total Allowable Catch (TAC), Initial TAC (ITAC), and CDQ Reserve Allocation of Groundfish in the BSAI ¹
[Amounts are in metric tons]
Species | Area | 2006: OFL | 2006: ABC | 2006: TAC | 2006: ITAC ² | 2006: CDQ ³ | 2007: OFL | 2007: ABC | 2007: TAC | 2007: ITAC ² | 2007: CDQ ³
Pollock ⁴ | BS ² | 2,090,000 | 1,930,000 | 1,485,000 | 1,336,500 | 148,500 | 1,930,000 | 1,790,000 | 1,500,000 | 1,350,000 | 150,000
| AI ² | 39,100 | 29,400 | 19,000 | 17,100 | 1,900 | 39,100 | 29,400 | 19,000 | 17,100 | 1,900
| Bogoslof | 50,600 | 5,500 | 10 | 10 | n/a | 50,600 | 5,500 | 10 | 10 | n/a
Pacific cod | BSAI | 230,000 | 194,000 | 188,180 | 159,953 | 14,114 | 176,000 | 148,000 | 143,560 | 122,026 | 10,767
Sablefish ⁵ | BS | 3,680 | 3,060 | 2,820 | 2,327 | 388 | 3,260 | 2,700 | 2,700 | 1,148 | 101
| AI | 3,740 | 3,100 | 3,000 | 2,438 | 499 | 3,300 | 2,740 | 2,740 | 582 | 51
Atka mackerel | BSAI | 130,000 | 110,000 | 63,000 | 53,550 | 4,725 | 107,000 | 91,000 | 63,000 | 53,550 | 4,725
| EAI/BS | n/a | 21,780 | 7,500 | 6,375 | 563 | n/a | 18,020 | 7,500 | 6,375 | 563
| CAI | n/a | 46,860 | 40,000 | 34,000 | 3,000 | n/a | 38,760 | 38,000 | 32,300 | 2,850
| WAI | n/a | 41,360 | 15,500 | 13,175 | 1,163 | n/a | 34,220 | 17,500 | 14,875 | 1,313
Yellowfin sole | BSAI | 144,000 | 121,000 | 95,701 | 81,346 | 7,178 | 137,000 | 116,000 | 107,641 | 91,495 | 8,073
Rock sole | BSAI | 150,000 | 126,000 | 41,500 | 35,275 | 3,113 | 145,000 | 122,000 | 44,000 | 37,400 | 3,300
Greenland turbot | BSAI | 14,200 | 2,740 | 2,740 | 2,329 | 206 | 13,400 | 2,630 | 2,630 | 2,236 | 197
| BS | n/a | 1,890 | 1,890 | 1,607 | 142 | n/a | 1,815 | 1,815 | 1,543 | 136
| AI | n/a | 850 | 850 | 723 | 64 | n/a | 815 | 815 | 693 | 61
Arrowtooth flounder | BSAI | 166,000 | 136,000 | 13,000 | 11,050 | 975 | 174,000 | 142,000 | 18,000 | 15,300 | 1,350
Flathead sole | BSAI | 71,800 | 59,800 | 19,500 | 16,575 | 1,463 | 67,900 | 56,600 | 22,000 | 18,700 | 1,650
Other flatfish ⁶ | BSAI | 24,200 | 18,100 | 3,500 | 2,975 | 263 | 24,200 | 18,100 | 5,000 | 4,250 | 375
Alaska plaice | BSAI | 237,000 | 188,000 | 8,000 | 6,800 | 600 | 231,000 | 183,000 | 15,000 | 12,750 | 1,125
Pacific ocean perch | BSAI | 17,600 | 14,800 | 12,600 | 10,710 | 945 | 17,600 | 14,800 | 14,800 | 12,580 | 1,110
| BS | n/a | 2,960 | 1,400 | 1,190 | 105 | n/a | 2,960 | 2,960 | 2,516 | 222
| EAI | n/a | 3,256 | 3,080 | 2,618 | 231 | n/a | 3,256 | 3,256 | 2,768 | 244
| CAI | n/a | 3,212 | 3,035 | 2,580 | 228 | n/a | 3,212 | 3,212 | 2,730 | 241
| WAI | n/a | 5,372 | 5,085 | 4,322 | 381 | n/a | 5,375 | 5,372 | 4,566 | 403
Northern rockfish | BSAI | 10,100 | 8,530 | 4,500 | 3,825 | 338 | 9,890 | 8,320 | 5,000 | 4,250 | 375
Shortraker rockfish | BSAI | 774 | 580 | 580 | 493 | 44 | 774 | 580 | 580 | 493 | 44
Rougheye rockfish | BSAI | 299 | 224 | 224 | 190 | 17 | 299 | 224 | 224 | 190 | 17
Other rockfish ⁷ | BSAI | 1,870 | 1,400 | 1,050 | 893 | 79 | 1,870 | 1,400 | 1,400 | 1,190 | 105
| BS | n/a | 810 | 460 | 391 | 35 | n/a | 810 | 810 | 689 | 61
| AI | n/a | 590 | 590 | 502 | 44 | n/a | 590 | 590 | 502 | 44
Squid | BSAI | 2,620 | 1,970 | 1,275 | 1,084 | n/a | 2,620 | 1,970 | 1,275 | 1,084 | n/a
Other species ⁸ | BSAI | 89,404 | 58,882 | 29,000 | 24,650 | 2,175 | 89,404 | 62,950 | 27,000 | 22,950 | 2,025
Total |  | 3,476,987 | 3,013,086 | 1,994,180 | 1,770,073 | 187,522 | 3,224,217 | 2,799,914 | 1,995,560 | 1,769,284 | 187,290
¹ These amounts apply to the entire BSAI management area unless otherwise specified. With the exception of pollock, and for the purpose of these harvest specifications, the Bering Sea (BS) subarea includes the Bogoslof District.
² Except for pollock and the portion of the sablefish TAC allocated to hook-and-line and pot gear, 15 percent of each TAC is put into a reserve. The ITAC for each species is the remainder of the TAC after the subtraction of these reserves.
³ Except for pollock, squid and the hook-and-line or pot gear allocation of sablefish, one half of the amount of the TACs placed in reserve, or 7.5 percent of the TACs, is designated as a CDQ reserve for use by CDQ participants (see §§ 679.20(b)(1)(iii) and 679.31).
⁴ Pursuant to § 679.20(a)(5)(i)(A)(1), the annual Bering Sea pollock TAC after subtraction for the CDQ directed fishing allowance−10 percent and the ICA−3.35 percent, is further allocated by sector for a directed pollock fishery as follows: Inshore−50 percent; catcher/processor−40 percent; and motherships−10 percent. Pursuant to § 679.20(a)(5)(iii)(B)(2)(i) and (ii), the annual AI pollock TAC, after subtracting first for the CDQ directed fishing allowance−10 percent and second for the ICA−1,800 mt, is allocated to the Aleut Corporation for a directed pollock fishery.
⁵ Twenty percent of the sablefish TAC allocated to hook-and-line gear or pot gear and 7.5 percent of the sablefish TAC allocated to trawl gear is reserved for use by CDQ participants (see § 679.20(b)(1)(iii)).
⁶ “Other flatfish” includes all flatfish species, except for halibut (a prohibited species), flathead sole, Greenland turbot, rock sole, yellowfin sole, arrowtooth flounder and Alaska plaice.
⁷ “Other rockfish” includes all Sebastes and Sebastolobus species except for Pacific ocean perch, northern, shortraker, and rougheye rockfish.
⁸ “Other species” includes sculpins, sharks, skates and octopus. Forage fish, as defined at § 679.2, are not included in the “other species” category.

Table 2.—2006 and 2007 Apportionment of Reserves to ITAC Categories
[Amounts are in metric tons]
Species—area or subarea | 2006 reserve amount | 2006 final ITAC | 2007 reserve amount | 2007 final ITAC
Atka mackerel—Eastern Aleutian District and Bering Sea subarea | 563 | 6,938 | 563 | 6,938
Atka mackerel—Central Aleutian District | 3,000 | 37,000 | 2,850 | 35,150
Atka mackerel—Western Aleutian District | 1,163 | 14,338 | 1,313 | 16,188
Pacific ocean perch—Eastern Aleutian District | 231 | 2,849 | 244 | 3,012
Pacific ocean perch—Central Aleutian District | 228 | 2,808 | 241 | 2,971
Pacific ocean perch—Western Aleutian District | 381 | 4,703 | 403 | 4,969
Pacific cod—BSAI | 14,113 | 174,066 | 10,767 | 132,793
Shortraker rockfish—BSAI | 44 | 537 | 44 | 537
Rougheye rockfish—BSAI | 17 | 207 | 17 | 207
Northern rockfish—BSAI | 338 | 4,163 | 375 | 4,625
Other rockfish—Bering Sea subarea | 35 | 426 | 61 | 750
Total | 20,113 | 248,035 | 16,878 | 208,140

Table 5.—2006 and 2007 Gear Shares and Seasonal Allowances of the BSAI Pacific Cod ITAC
[Amounts are in metric tons]
Gear sector | Percent | 2006 share of gear sector total | 2006 subtotal percentages for gear sectors | 2006 share of gear sector total | 2006 seasonal apportionment ¹: Date | 2006 seasonal apportionment ¹: Amount | 2007 share of gear sector total | 2007 subtotal percentages for gear sectors | 2007 share of gear sector total | 2007 seasonal apportionment ¹: Date | 2007 seasonal apportionment ¹: Amount
Total hook-and-line/pot gear | 51 | 88,774 | n/a | n/a | n/a | n/a | 67,724 | n/a | n/a | n/a | n/a
Hook-and-line/pot ICA | n/a | n/a | n/a | 500 | n/a | n/a | n/a | n/a | 500 | n/a | n/a
Hook-and-line/pot subtotal | n/a | 88,274 | n/a | n/a | n/a | n/a | 67,224 | n/a | n/a | n/a | n/a
Hook-and-line C/P | n/a | n/a | 80 | 70,619 | Jan 1-Jun 10 | 42,372 | n/a | 80 | 53,780 | Jan 1-Jun 10 | 32,268
|  |  |  |  | June 10-Dec 31 | 28,248 |  |  |  | Jun 10-Dec 31 | 21,512
Hook-and-line CV | n/a | n/a | 0.3 | 265 | Jan 1-Jun 10 | 159 | n/a | 0.3 | 202 | Jan 1-Jun 10 | 121
|  |  |  |  | June 10-Dec 31 | 106 |  |  |  | Jun 10-Dec 31 | 81
Pot C/P | n/a | n/a | 3.3 | 2,913 | Jan 1-Jun 10 | 1,749 | n/a | 3.3 | 2,218 | Jan 1-Jun10 | 1,331
|  |  |  |  | Sept 1-Dec 31 | 1,165 |  |  |  | Sept 1-Dec 31 | 887
Pot CV | n/a | n/a | 15 | 13,241 | Jan 1-Jun 10 | 7,945 | n/a | 15 | 10,084 | Jan 1-Jun 10 | 6,050
|  |  |  |  | Sept 1-Dec 31 | 5,296 |  |  |  | Sept 1-Dec 31 | 4,033
CV < 60 feet LOA using Hook-and-line or Pot gear | n/a | n/a | 1.4 | 1,236 | n/a | n/a | n/a | 1.4 | 941 | n/a | n/a
Total Trawl Gear | 47 | 81,811 | n/a | n/a | n/a | n/a | 62,413 | n/a | n/a | n/a | n/a
Trawl CV |  |  | 50 | 40,906 | Jan 20-Apr 1 | 28,634 |  | 50 | 31,206 | Jan 20-Apr 1 | 21,844
|  |  |  | n/a | Apr 1-Jun 10 | 4,091 |  |  | n/a | Apr 1-Jun 10 | 3,121
|  |  |  | n/a | Jun 10-Nov 1 | 8,181 |  |  | n/a | Jun 10-Nov 1 | 6,241
Trawl CP |  |  | 50 | 40,906 | Jan 20-Apr 1 | 20,453 |  | 50 | 31,206 | Jan 20-Apr 1 | 15,603
|  |  |  | n/a | Apr 1-Jun 10 | 12,272 |  |  | n/a | Apr 1-Jun 10 | 9,362
|  |  |  | n/a | Jun 10-Nov 1 | 8,181 |  |  | n/a | Jun 10-Nov 1 | 6,241
Jig | 2 | 3,481 | n/a | n/a | Jan 1-Apr 30 | 1,393 | 2,656 | n/a | n/a | Jan 1-Apr 30 | 1,062
|  |  | n/a | n/a | Apr 30-Aug 31 | 696 |  | n/a | n/a | Apr 30-Aug 31 | 531
|  |  | n/a | n/a | Aug 31-Dec 31 | 1,392 |  | n/a | n/a | Aug 31-Dec 31 | 1,062
Total | 100 | 174,066 | n/a | n/a | n/a | n/a | 132,793 | n/a | n/a | n/a | n/a
¹ For most non-trawl gear the first season is allocated 60 percent of the ITAC and the second season is allocated 40 percent of the ITAC. For jig gear, the first season and third seasons are each allocated 40 percent of the ITAC and the second season is allocated 20 percent of the ITAC. No seasonal harvest constraints are imposed for the Pacific cod fishery by catcher vessels less than 60 feet (18.3 m) LOA using hook-and-line or pot gear. For trawl gear, the first season is allocated 60 percent of the ITAC and the second and third seasons are each allocated 20 percent of the ITAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

Table 12.—2006 and 2007 Listed BSAI American Fisheries Act Catcher/Processor Groundfish Sideboard Limits
[Amounts are in metric tons]
Target species | Area | 1995-1997: Retained catch | 1995-1997: Total catch | 1995-1997: Ratio of retained catch to total catch | 2006 ITAC available to trawl C/Ps | 2006 C/P sideboard limit | 2007 ITAC available to trawl C/Ps | 2007 C/P sideboard limit
Pacific cod trawl | BSAI | 12,424 | 48,177 | 0.258 | 40,906 | 10,554 | 31,206 | 8,051
Sablefish trawl | BS | 8 | 497 | 0.016 | 1,199 | 19 | 1,148 | 18
| AI | 0 | 145 | 0.000 | 638 | 0 | 582 | 0
Atka mackerel | Central AI | n/a | n/a | n/a | n/a | n/a | n/a | n/a
| A season ¹ | n/a | n/a | 0.115 | 18,500 | 2,128 | 17,575 | 2,021
| HLA limit ² | n/a | n/a | n/a | 11,100 | 1,277 | 10,545 | 1,213
| B season ¹ | n/a | n/a | 0.115 | 18,500 | 2,128 | 17,575 | 2,021
| HLA limit ² | n/a | n/a | n/a | 11,100 | 1,277 | 10,545 | 1,213
| Western AI | n/a | n/a | n/a | n/a | n/a | n/a | n/a
| A season ¹ | n/a | n/a | 0.200 | 7,169 | 1,434 | 8,094 | 1,619
| HLA limit ² | n/a | n/a | n/a | 4,301 | 860 | 4,856 | 971
| B season ¹ | n/a | n/a | 0.200 | 7,169 | 1,434 | 8,094 | 1,619
| HLA limit ² | n/a | n/a | n/a | 4,301 | 860 | 4,856 | 971
Yellowfin sole | BSAI | 100,192 | 435,788 | 0.230 | 81,346 | 18,710 | 91,495 | 21,044
Rock sole | BSAI | 6,317 | 169,362 | 0.037 | 35,275 | 1,305 | 37,400 | 1,384
Greenland turbot | BS | 121 | 17,305 | 0.007 | 1,607 | 11 | 1,543 | 11
| AI | 23 | 4,987 | 0.005 | 723 | 4 | 693 | 3
Arrowtooth flounder | BSAI | 76 | 33,987 | 0.002 | 11,050 | 22 | 15,300 | 31
Flathead sole | BSAI | 1,925 | 52,755 | 0.036 | 16,575 | 597 | 18,700 | 673
Alaska plaice | BSAI | 14 | 9,438 | 0.001 | 6,800 | 7 | 12,750 | 13
Other flatfish | BSAI | 3,058 | 52,298 | 0.058 | 2,975 | 173 | 4,250 | 247
Pacific ocean perch | BS | 12 | 4,879 | 0.002 | 1,190 | 2 | 2,516 | 5
| Eastern AI | 125 | 6,179 | 0.020 | 2,849 | 57 | 3,012 | 60
| Central AI | 3 | 5,698 | 0.001 | 2,808 | 3 | 2,971 | 3
| Western AI | 54 | 13,598 | 0.004 | 4,703 | 19 | 4,969 | 20
Northern rockfish | BSAI | 91 | 13,040 | 0.007 | 4,163 | 29 | 4,625 | 32
Shortraker rockfish | BSAI | 50 | 2,811 | 0.018 | 537 | 10 | 537 | 10
Rougheye rockfish | BSAI | 50 | 2,811 | 0.018 | 207 | 4 | 207 | 4
Other rockfish | BS | 18 | 621 | 0.029 | 426 | 12 | 750 | 22
| AI | 22 | 806 | 0.027 | 502 | 14 | 502 | 14
Squid | BSAI | 73 | 3,328 | 0.022 | 1,084 | 24 | 1,084 | 24
Other species | BSAI | 553 | 68,672 | 0.008 | 24,650 | 197 | 22,950 | 184
¹ The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
² Harvest Limit Area (HLA) limit refers to the amount of each seasonal allowance that is available for fishing inside the HLA (see § 679.2). In 2006 and 2007, 60 percent of each seasonal allowance is available for fishing inside the HLA in the Western and Central Aleutian Districts.

Table 14.—2006 and 2007 BSAI American Fisheries Act Catcher Vessel Sideboard Limits
[Amounts are in metric tons]
Species | Fishery by area/season/processor/gear | Ratio of 1995-1997 AFA CV catch to 1995-1997 TAC | 2006 initial TAC | 2006 catcher vessel sideboard limits | 2007 initial TAC | 2007 catcher vessel sideboard limits
Pacific cod | BSAI | n/a | n/a | n/a | n/a | n/a
| Jig gear | 0.0000 | 3,481 | 0 | 2,656 | 0
| Hook-and-line CV | n/a | n/a | n/a | n/a | n/a
| Jan 1-Jun 10 | 0.0006 | 159 | 0 | 121 | 0
| Jun 10-Dec 31 | 0.0006 | 106 | 0 | 81 | 0
| Pot gear CV | n/a | n/a | n/a | n/a | n/a
| Jan 1-Jun 10 | 0.0006 | 7,945 | 5 | 6,050 | 4
| Sept 1-Dec 31 | 0.0006 | 5,296 | 3 | 4,033 | 2
| CV < 60 feet LOA using hook-and-line or pot gear | 0.0006 | 1,236 | 1 | 941 | 1
| Trawl gear CV | n/a | n/a | n/a | n/a | n/a
| Jan 20-Apr 1 | 0.8609 | 28,634 | 24,651 | 21,844 | 18,805
| Apr 1-Jun 10 | 0.8609 | 4,091 | 3,522 | 3,121 | 2,687
| Jun 10-Nov 1 | 0.8609 | 8,181 | 7,043 | 6,241 | 5,373
Sablefish | BS trawl gear | 0.0906 | 1,199 | 109 | 1,148 | 104
| AI trawl gear | 0.0645 | 638 | 41 | 582 | 38
Atka mackerel | Eastern AI/BS | n/a | n/a | n/a | n/a | n/a
| Jig gear | 0.0031 | 69 | 0 | 69 | 0
| Other gear | n/a | n/a | n/a | n/a | n/a
| Jan 1-Apr 15 | 0.0032 | 3,434 | 11 | 3,434 | 11
| Sept 1-Nov 1 | 0.0032 | 3,434 | 11 | 3,434 | 11
| Central AI | n/a | n/a | n/a | n/a | n/a
| Jan-Apr 15 | 0.0001 | 18,500 | 2 | 17,575 | 2
| HLA limit | 0.0001 | 11,100 | 1 | 10,545 | 1
| Sept 1-Nov 1 | 0.0001 | 18,500 | 2 | 17,575 | 2
| HLA limit | 0.0001 | 11,100 | 1 | 10,545 | 1
| Western AI | n/a | n/a | n/a | n/a | n/a
| Jan-Apr 15 | 0.0000 | 7,169 | 0 | 8,094 | 0
| HLA limit | n/a | 4,301 | 0 | 4,856 | 0
| Sept 1-Nov 1 | 0.0000 | 7,169 | 0 | 8,094 | 0
| HLA limit | n/a | 4,301 | 0 | 4,856 | 0
Yellowfin sole | BSAI | 0.0647 | 81,346 | 5,263 | 91,495 | 5,920
Rock sole | BSAI | 0.0341 | 35,275 | 1,203 | 37,400 | 1,275
Greenland Turbot | BS | 0.0645 | 1,607 | 104 | 1,543 | 100
| AI | 0.0205 | 723 | 15 | 693 | 14
Arrowtooth flounder | BSAI | 0.0690 | 11,050 | 762 | 15,300 | 1,056
Alaska plaice | BSAI | 0.0441 | 6,800 | 300 | 12,750 | 562
Other flatfish | BSAI | 0.0441 | 2,975 | 131 | 4,250 | 187
Pacific ocean perch | BS | 0.1000 | 1,190 | 119 | 2,516 | 252
| Eastern AI | 0.0077 | 2,849 | 22 | 3,012 | 23
| Central AI | 0.0025 | 2,808 | 7 | 2,971 | 7
| Western AI | 0.0000 | 4,703 | 0 | 4,969 | 0
Northern rockfish | BSAI | 0.0084 | 4,163 | 35 | 4,625 | 39
Shortraker rockfish | BSAI | 0.0037 | 537 | 2 | 537 | 2
Rougheye rockfish | BSAI | 0.0037 | 207 | 1 | 207 | 1
Other rockfish | BS | 0.0048 | 426 | 2 | 750 | 4
| AI | 0.0095 | 502 | 5 | 502 | 5
Squid | BSAI | 0.3827 | 1,084 | 415 | 1,084 | 415
Other species | BSAI | 0.0541 | 24,650 | 1,334 | 22,950 | 1,242
Flathead Sole | BS trawl gear | 0.0505 | 16,575 | 837 | 18,700 | 944

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the adjustment of the 2006 and 2007 Pacific cod TACs to account for the state waters GHL in the Aleutian Islands subarea. On March 1, 2006, ADF&G announced the state waters GHL in the Aleutian Islands subarea. Since the 2006 fisheries are currently underway and the 2006 and 2007 TACs are jointly established, it is necessary to immediately adjust the TACs to avoid overharvesting gear shares and seasonal allowances of Pacific cod in the BSAI. Immediate adjustment is necessary to allow for the orderly conduct and efficient operation of this fishery, allow the industry to plan for the remainder of the 2006 and 2007 fishing seasons, and avoid potential disruption to the fishing fleet and processors.

The AA also finds good cause to waive the 30-day delay in the effective date of this action under 5 U.S.C. 553(d)(3). This finding is based upon the reasons provided above for waiver of prior notice and opportunity for public comment.

This action is required by § 679.20 and § 679.25 and is exempt from review under Executive Order 12866.

Authority: 16 U.S.C. 1801 et seq.

Dated: March 14, 2006.
James P. Burgess,
Acting Director, Office of Sustainable Fisheries, National Marine Fisheries Service.

[FR Doc. 06-2616 Filed 3-14-06; 2:34 pm]

BILLING CODE 3510-22-P